DEPARTMENT OF THE INTERIOR

Bureau of Land Management

[LLMT926000-11-L19100000-BJ0000-LRCME0R04764]

Notice of Filing of Plats of Survey; Montana

AGENCY: Bureau of Land Management, Interior.

ACTION: Notice of filing of plats of survey.

SUMMARY: The Bureau of Land Management (BLM) will file the plat of survey of the lands described below in the BLM Montana State Office, Billings, Montana, on June 13, 2011.

DATES: Protests of the survey must be filed before June 13, 2011 to be considered.

ADDRESSES: Protests of the survey should be sent to the Branch of Cadastral Survey, Bureau of Land Management, 5001 Southgate Drive, Billings, Montana 59101-4669.

FOR FURTHER INFORMATION CONTACT: Randy Thomas, Cadastral Surveyor,Branch of Cadastral Survey, Bureau of Land Management, 5001 Southgate Drive, Billings, Montana 59101-4669, telephone (406) 896-5134 or (406) 896-5009. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This survey was executed at the request of the Superintendent, Fort Peck Agency, through the Rocky Mountain Regional Director, Bureau of Indian Affairs, and was necessary to determine boundaries of trust or tribal interest lands.

Principal Meridian, Montana

T. 27 N., R. 51 E.

The plat, in two sheets, representing the corrective dependent resurvey of the west half of the line between sections 8 and 17, the line between sections 7 and 18, the south half of the line between sections 7 and 8, the adjusted original meanders of the former left bank of the Missouri River, downstream, through section 18, the meanders of the 2002-2005 left bank of the Missouri River, downstream, through section 18, the limits of erosion, downstream, through section 18, and a certain division of accretion line in section 18, the dependent resurvey of a portion of the subdivision of section 8, the subdivision of section 8, and the survey of the meanders of the present left bank of the Missouri River and informative traverse, downstream, through section 8, Township 27 North, Range 51 East, Principal Meridian, Montana, was accepted April 1, 2011.

We will place a copy of the plat, in two sheets, and related field notes we described in the open files. They will be available to the public as a matter of information. If the BLM receives a protest against this survey, as shown on this plat, in two sheets, prior to the date of the official filing, we will stay the filing pending our consideration of the protest. We will not officially file this plat, in two sheets, until the day after we have accepted or dismissed all protests and they have become final, including decisions or appeals.

Authority: 43 U.S.C. Chap. 3.

James D. Claflin,
Chief Cadastral Surveyor, Division of Resources.

[FR Doc. 2011-11682 Filed 5-11-11; 8:45 am]

BILLING CODE 4310-DN-P